DEPARTMENT OF THE TREASURY

Office of the Comptroller of the Currency

Office of Thrift Supervision

FEDERAL RESERVE SYSTEM

FEDERAL DEPOSIT INSURANCE CORPORATION

Agency Information Collection Activities: Submission for OMB Review; Joint Comment Request

AGENCIES: Office of the Comptroller of the Currency (OCC), Treasury; Office of Thrift Supervision (OTS), Treasury; Board of Governors of the Federal Reserve System (Board); and Federal Deposit Insurance Corporation (FDIC).

ACTION: Notice of information collection to be submitted to OMB for review and approval under the Paperwork Reduction Act of 1995.

SUMMARY: In accordance with the requirements of the Paperwork Reduction Act of 1995 (44 U.S.C. chapter 35), the OCC, the OTS, the Board, and the FDIC (the “agencies”) may not conduct or sponsor, and the respondent is not required to respond to, an information collection unless it displays a currently valid Office of Management and Budget (OMB) control number.

On November 13, 2003, the agencies, under the auspices of the Federal Financial Institutions Examination Council (FFIEC), published a notice in the Federal Register (68 FR 64422) requesting public comment on the extension, without revision, of the currently approved information collection: Report on Indebtedness of Executive Officers and Principal Shareholders and their Related Interests to Correspondent Banks (FFIEC 004). The comment period for this notice expired on January 12, 2004. No comments were received. The agencies are now submitting requests to OMB for approval of the extension, without revision, of the FFIEC 004 report.

DATES: Comments must be submitted on or before April 15, 2004.

ADDRESSES: Interested parties are invited to submit written comments to any or all of the agencies. All comments, which should refer to the OMB control number, will be shared among the agencies.

OCC: Comments should be sent to the Office of the Comptroller of the Currency, Public Information Room, Mailstop 1-5, Attention: 1557-0070, 250 E Street, SW., Washington, DC 20219. Due to delays in paper mail delivery in the Washington area, commenters are encouraged to submit comments by fax or e-mail. Comments may be sent by fax to 202-874-4448, or by e-mail to regs.comments@occ.treas.gov. You can inspect and photocopy the comments at the OCC's Public Information Room, 250 E Street, SW., Washington, DC 20219. You can make an appointment to inspect the comments by calling 202-874-5043.

OTS: Information Collection Comments, Chief Counsel's Office, Office of Thrift Supervision, 1700 G Street, NW, Washington, DC 20552, Attention: 1550-0075, Fax number 202-906-6518, or e-mail to infocollection.comments@ots.treas.gov. OTS will post comments and the related index on the OTS Internet Site at www.ots.treas.gov. In addition, interested persons may inspect comments at the Public Reading Room, 1700 G Street, NW, by appointment. To make an appointment, call 202-906-5922, send an e-mail to publicinfo@ots.treas.gov, or send a facsimile transmission to 202-906-7755.

Board: Comments should be mailed to Jennifer J. Johnson, Secretary, Board of Governors of the Federal Reserve System, 20th Street and Constitution Avenue, N.W., Washington, DC 20551. Please consider submitting your comments through the Board's web site at www.federalreserve.gov/generalinfo/foia/ProposedRegs.cfm; by e-mail to regs.comments@federalreserve.gov; or by fax to the Office of the Secretary at 202-452-3819 or 202-452-3102. Rules proposed by the Board and other federal agencies may also be viewed and commented on at www.regulations.gov. All public comments are available from the Board's web site at www.federalreserve.gov/generalinfo/foia/ProposedRegs.cfm as submitted, except as necessary for technical reasons. Accordingly, your comments will not be edited to remove any identifying or contact information. Public comments may also be viewed electronically or in paper in Room MP-500 of the Board's Martin Building (C and 20th Streets, N.W.) between 9:00 a.m. and 5:00 p.m. on weekdays.

FDIC: Written comments should be addressed to Robert E. Feldman, Executive Secretary, Attention: Comments/Legal, Federal Deposit Insurance Corporation, 550 17th Street, N.W., Washington, D.C. 20429. All comments should refer to “FFIEC 004, 3064-0023.” Commenters are encouraged to submit comments by fax or electronic mail [FAX number 202-898-3838; e-mail: comments@fdic.gov]. Comments also may be hand-delivered to the guard station at the rear of the 550 17th Street Building (located on F Street) on business days between 7:00 a.m. and 5:00 p.m. Comments may be inspected and photocopied in the FDIC Public Information Center, Room 100, 801 17th Street, N.W., Washington, D.C., between 9:00 a.m. and 4:30 p.m. on business days.

A copy of the comments may also be submitted to the OMB desk officer for the agencies: Joseph F. Lackey, Jr., Office of Information and Regulatory Affairs, Office of Management and Budget, New Executive Office Building, Room 10235, Washington, DC 20503 or electronic mail to jlackeyj@omb.eop.gov.

FOR FURTHER INFORMATION CONTACT: Additional information or a copy of the collection may be requested from:

OCC: John Ference, Acting OCC Clearance Officer, or Camille Dixon, 202-874-5090, Legislative and Regulatory Activities Division, Office of the Comptroller of the Currency, 250 E Street, S.W., Washington, D.C. 20219.

OTS: Marilyn K. Burton, OTS Clearance Officer, 202-906-6467, Office of Thrift Supervision, 1700 G Street, N.W., Washington, D.C. 20552.

Board: Cindy Ayouch, Federal Reserve Board Clearance Officer, 202-452-3829, Division of Research and Statistics, Board of Governors of the Federal Reserve System, 20th and C Streets, N.W., Washington, D.C. 20551. Telecommunications Device for the Deaf (TDD) users may call 202-263-4869, Board of Governors of the Federal Reserve System, 20th and C Streets, N.W., Washington, D.C. 20551.

FDIC: Steven F. Hanft, FDIC Clearance Officer, 202-898-3907, Legal Division, Federal Deposit Insurance Corporation, 550 17th Street N.W., Washington, D.C. 20429.

SUPPLEMENTARY INFORMATION:

Proposal to Request Approval From OMB of the Extension for Three Years, Without Revision, of the Following Report:

Title: Report on Indebtedness of Executive Officers and Principal Shareholders and their Related Interests to Correspondent Banks

Form Number: FFIEC 004

Frequency of Response: Annually (for executive officers and principal shareholders), and on occasion (for national banks, state member banks, insured state nonmember banks, and savings associations)

Affected Public: Individuals or households, businesses or other for-profit

For OCC:

OMB Number: 1557-0070

Estimated Number of Respondents: 23,386 (21,260 executive officers and principal shareholders fulfilling record keeping burden, 2,126 national banks fulfilling record keeping and disclosure burden)

Estimated Time per Response: 2.25 hours

Estimated Total Annual Burden: 52,619

For OTS:

OMB Number: 1550-0075

Estimated Number of Respondents: 4,620 (3,696 executive officers and principal shareholders fulfilling record keeping burden, 924 savings associations fulfilling record keeping and disclosure burden)

Estimated Time per Response: 2.75 hours

Estimated Total Annual Burden: 12,705

For Board:

OMB Number: 7100-0034

Estimated Number of Respondents: 4,760 (3,808 executive officers and principal shareholders fulfilling record keeping burden, 952 state member banks fulfilling record keeping and disclosure burden)

Estimated Time per Response: 1.12 hours

Estimated Total Annual Burden: 5,331

For FDIC:

OMB Number: 3064-0023

Estimated Number of Respondents: 26,660 (21,328 executive officers and principal shareholders fulfilling record keeping burden, 5,332 insured state nonmember banks fulfilling record keeping and disclosure burden)

Estimated Time per Response: 1.8 hours

Estimated Total Annual Burden: 47,988

General Description of Report: These information collections are mandatory: 12 U.S.C. 1972(2)(G) (all); 12 U.S.C. 1817(k), 12 CFR 31.2, and 12 U.S.C. 93a (OCC); 12 U.S.C. 1468 and 12 CFR 563.43 (OTS); 12 U.S.C. 375(a)(6) and (10), and 375(b)(10) (Board); and 12 CFR 349.3 and 349.4 (FDIC). In general, these information collections are given confidential treatment (5 U.S.C. 552 (b)(8)), but banks and savings associations are required to make certain limited disclosures.

Abstract: Executive officers and principal shareholders of insured banks and savings associations must file with their institution the information contained in the FFIEC 004 report on their indebtedness and that of their related interests to correspondent banks. The information contained in the FFIEC 004 report is prescribed by statute and regulation, as cited above. Banks and savings associations must retain these reports or reports containing similar information and fulfill other record keeping requirements, such as furnishing annually a list of their correspondent banks to their executive officers and principal shareholders. Banks and savings associations also have certain disclosure requirements for these information collections.

Current Actions: The agencies propose to extend, without revision, the FFIEC 004 report. The agencies continue to evaluate the record keeping requirements contained in their regulations that relate to the FFIEC 004 report. Should the agencies decide to revise these regulations, a separate Federal Register notice will be published inviting comment from the public on the proposed revisions. Any revisions that may be made to the agencies' regulations could be subsequently incorporated into the FFIEC 004.

Request for Comment

Comments are invited on:

a. Whether the information collections are necessary for the proper performance of the agencies' functions, including whether the information has practical utility;

b. The accuracy of the agencies' estimates of the burden of the information collections, including the validity of the methodology and assumptions used;

c. Ways to enhance the quality, utility, and clarity of the information to be collected;

d. Ways to minimize the burden of information collections on respondents, including through the use of automated collection techniques or other forms of information technology; and

e. Estimates of capital or start up costs and costs of operation, maintenance, and purchase of services to provide information.

Comments submitted in response to this notice will be shared among the agencies. All comments will become a matter of public record. Written comments should address the accuracy of the burden estimates and ways to minimize burden as well as other relevant aspects of the information collection request.

Date: February 12, 2004.
Mark J. Tenhundfeld,
Assistant Director, Legislative and Regulatory Activities Division, Office of the Comptroller of the Currency.
Dated: February 19, 2004.
Office of Thrift Supervision
James E. Gilleran,
Director.
Board of Governors of the Federal Reserve System, February 27, 2004.
Jennifer J. Johnson,
Secretary of the Board.
Dated at Washington, D.C., this 11th day of February, 2004.
Federal Deposit Insurance Corporation
Robert E. Feldman,
Executive Secretary.

[FR Doc. 04-4839 Filed 3-3-04; 8:45 am]

BILLING CODES 4810-33; 6720-01; 6210-01; 6714-01